DEPARTMENT OF THE INTERIOR

Bureau of Ocean Energy Management

[Docket No. BOEM-2021-0012]

Notice of Availability of a Final Environmental Impact Statement for Vineyard Wind LLC's Proposed Wind Energy Facility Offshore Massachusetts

AGENCY: Bureau of Ocean Energy Management (BOEM), Interior.

ACTION: Notice of availability; final environmental impact statement.

SUMMARY: In accordance with National Environmental Policy Act (NEPA) regulations, BOEM announces the availability of the Final Environmental Impact Statement (FEIS) prepared for the Vineyard Wind Offshore Wind Energy Project Construction and Operation Plan (COP) submitted by Vineyard Wind LLC (Vineyard Wind). The FEIS analyzes the potential environmental impacts of the COP (the proposed action) and alternatives to it and will inform BOEM's decision whether to approve, approve with modifications, or disapprove the COP.

ADDRESSES: The FEIS can be found on BOEM's website at: https://www.boem.gov/Vineyard-Wind/.

FOR FURTHER INFORMATION CONTACT: For information on the EIS or BOEM's policies associated with this notice, please contact: BOEM—Michelle Morin, BOEM Office of Renewable Energy Programs, 45600 Woodland Road, Sterling, Virginia 20166, (703) 787-1722 or michelle.morin@boem.gov.

SUPPLEMENTARY INFORMATION: Proposed Action: Vineyard Wind seeks to construct, operate, maintain, and eventually decommission an 800-megawatt wind energy facility on the Outer Continental Shelf (OCS) offshore Massachusetts (the Project). The Project and associated export cables would be developed within the range of design parameters outlined in the Vineyard Wind COP, subject to applicable mitigation measures. The COP proposes installing up to 100 wind turbine generators and one or two offshore substations or electrical service platforms. As currently proposed, the Project would be located approximately 14 miles southeast of Martha's Vineyard and a similar distance southwest of Nantucket. The turbines would be located in water depths ranging from approximately 37 to 49 meters (121 to 161 feet). The COP proposes one export cable landfall near the town of Barnstable, Massachusetts. Onshore construction and staging are proposed to take place at the New Bedford Marine Commerce Terminal.

Alternatives: BOEM considered 20 alternatives during the preparation of the EIS and carried forward seven for further analysis. These alternatives included six action alternatives (one of which has two sub-alternatives) and the no action alternative. The other 13 alternatives were not further analyzed because they did not meet the purpose and need for the proposed action or did not meet screening criteria. The screening criteria used included: Consistency with statutes and regulations; operational, technical, and economic feasibility; environmental impact; and geographical considerations. The FEIS also considers mitigation and monitoring measures that BOEM and other agencies may select.

Availability of the FEIS: The FEIS, Vineyard Wind COP, and associated information are available on BOEM's website at: https://www.boem.gov/Vineyard-Wind/. BOEM has distributed digital copies of the FEIS to all parties listed in the FEIS appendix J, which includes the location of all libraries receiving a copy. If you require a paper copy, BOEM will provide one upon request, as long as copies are available. You may request a CD or paper copy of the FEIS by calling (847) 258-8992.

Cooperating Agencies: The following nine agencies and governmental entities participated as cooperating agencies in the preparation of the FEIS: The Bureau of Safety and Environmental Enforcement; the U.S. Environmental Protection Agency; the National Marine Fisheries Service; the U.S. Army Corps of Engineers; the U.S. Coast Guard; the Massachusetts Office of Coastal Zone Management; the Rhode Island Department of Environmental Management; the Rhode Island Coastal Resource Management Council; and the Narragansett Indian Tribe.

Authority: This NOA was prepared under NEPA, as amended (42 U.S.C. 4231 et seq.), and published in accordance with 40 CFR 1506.6.

William Yancey Brown,
Chief Environmental Officer, Bureau of Ocean Energy Management.

[FR Doc. 2021-05176 Filed 3-11-21; 8:45 am]

BILLING CODE 4310-MR-P